DEPARTMENT OF TRANSPORTATION

Federal Aviation Administration

14 CFR Part 39

[Docket No. 2002-CE-50-AD]

RIN 2120-AA64

Airworthiness Directives; Lindstrand Balloons Ltd Fuel Hoses

AGENCY: Federal Aviation Administration, DOT.

ACTION: Notice of proposed rulemaking (NPRM).

SUMMARY: This document proposes to adopt a new airworthiness directive (AD) that would apply to all aircraft (specifically balloons) that incorporate certain Lindstrand Balloons Ltd (Lindstrand) fuel hoses. This proposed AD would require you to inspect for certain batches of installed fuel hoses and repair any of these fuel hoses. This proposed AD is the result of mandatory continuing airworthiness information (MCAI) issued by the airworthiness authority for the United Kingdom. The actions specified by this proposed AD are intended to detect and replace defective fuel hoses before they result in propane fuel leaks. Such propane fuel leaks could lead to a propane fuel fire.

DATES: The Federal Aviation Administration (FAA) must receive any comments on this proposed rule on or before January 10, 2003.

ADDRESSES: Submit comments to FAA, Central Region, Office of the Regional Counsel, Attention: Rules Docket No. 2002-CE-50-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-50-AD” in the subject line. If you send comments electronically as attached electronic files, the files must be formatted in Microsoft Word 97 for Windows or ASCII text.

You may get service information that applies to this proposed AD from Lindstrand Balloons Ltd, Maesbury Road, Oswestry, Shropshire SY 10 8ZZ; telephone: +44 (0) 1691-671717; facsimile: +44 (0) 1691-671122. You may also view this information at the Rules Docket at the address above.

FOR FURTHER INFORMATION CONTACT: Roger Chudy, Aerospace Engineer, FAA, Small Airplane Directorate, 901 Locust, Room 301, Kansas City, Missouri 64106; telephone: (816) 329-4140; facsimile: (816) 329-4090.

SUPPLEMENTARY INFORMATION:

Comments Invited

How do I comment on this proposed AD? The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the proposed rule. You may view all comments we receive before and after the closing date of the proposed rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2002-CE-50-AD.” We will date stamp and mail the postcard back to you.

Discussion

What events have caused this proposed AD? The Civil Aviation Authority (CAA), which is the airworthiness authority for the United Kingdom, recently notified FAA that an unsafe condition may exist on aircraft (specifically balloons) that incorporate certain Lindstrand fuel hoses. The CAA reports six incidents of 3/8-inch bore fuel supply hoses, batch identification number FHL 38381 or FHL 40579, failing in service.

The typical failure observed is of liquid fuel escaping at any position along the length of the hose and through the pinpricking on the outer surface. The leakage observed varies from small bubbles, when leak detection fluid is used on the surface of the hose, to visible jets of liquid propane.

What are the consequences if the condition is not corrected? Such propane fuel leaks could lead to a propane fuel fire.

Is there service information that applies to this subject? Lindstrand has issued Service Bulletin No. 7, Issue 1, dated July 11, 2002.

What are the provisions of this service information? The service bulletin includes procedures for:

—Inspecting all fuel hoses, including burner supply hoses, basket manifolds, and refueling hoses to detect the installation of hose batch FHL 38381 or FHL 40579; and

—Obtaining replacement fuel hoses and replacement instructions.

What action did the CAA take? The CAA classified this service bulletin as mandatory and issued British AD Number 002-07-2002, dated July 12, 2002, in order to ensure the continued airworthiness of these balloons in the United Kingdom.

Was this in accordance with the bilateral airworthiness agreement? These aircraft models are manufactured in the United Kingdom and are type certificated for operation in the United States under the provisions of section 21.29 of the Federal Aviation Regulations (14 CFR 21.29) and the applicable bilateral airworthiness agreement.

Pursuant to this bilateral airworthiness agreement, the CAA has kept FAA informed of the situation described above.

The FAA's Determination and an Explanation of the Provisions of This Proposed AD

What has FAA decided? The FAA has examined the findings of the CAA; reviewed all available information, including the service information referenced above; and determined that:

—The unsafe condition referenced in this document exists or could develop on type design aircraft (specifically balloons on the U.S. Registry) that incorporate certain Lindstrand Balloons Ltd fuel hoses;

—The actions specified in the previously-referenced service information should be accomplished on the affected airplanes; and

—AD action should be taken in order to correct this unsafe condition.

What would this proposed AD require? This proposed AD would require you to incorporate the actions in the previously-referenced service bulletin.

Cost Impact

How many aircraft would this proposed AD impact? We estimate that this proposed AD affects 204 aircraft (specifically balloons) in the U.S. registry.

What would be the cost impact of this proposed AD on owners/operators of the affected aircraft? We estimate the following costs to accomplish the proposed inspection:

Labor cost | Parts cost | Total cost per aircraft | Total cost on U.S. operators
1 workhour × $60 per hour = $60. | Not applicable. | $60. | $60 × 204 = $12,240.

We estimate the following costs to accomplish any necessary replacements that would be required based on the results of the proposed inspection. We have no way of determining the number of aircraft that may need such replacement:

Labor cost | Parts cost | Total cost per hose
1 workhour × $60 per hour = $60 per hose | Replacement hoses provided by manufacturer | $60.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Lindstrand Balloons Ltd: Docket No. 2002-CE-50-AD.

(a) What airplanes are affected by this AD? This AD affects any aircraft (specifically balloons), certificated in any category, that incorporate Lindstrand 3/8-inch bore hoses from either hose batches FHL 38381 or FHL 40579.

(b) Who must comply with this AD? Anyone who wishes to operate any of the aircraft identified in paragraph (a) of this AD must comply with this AD.

(c) What problem does this AD address? The actions specified by this AD are intended to detect and replace defective fuel hoses before they result in propane fuel leaks. Such propane fuel leaks could lead to a propane fuel fire.

(d) What actions must I accomplish to address this problem? To address this problem, you must accomplish the following:

Actions | Compliance | Procedures
(1) Inspect all ⅜-inch bore hoses used within the aircraft, including burner supply hoses, basket manifolds, and refueling goses to determine if the hose is from either defective hose batch FHL 38381 or FHL 40579. | Within 5 hours time-in-service after the effective date of this AD. | In accordance with Linstrand Balloons Ltd Service Bulletin No. 7, Issue 1, dated July 11, 2002.
(2) If any hose from the defective hose batch is found during the inspection: (i) Obtain a repair scheme from the manufacturer through the FAA at the address specified in paragraph (f) of this AD. (ii) Incorporate this repair scheme. | Prior to further flight after the inspection in which the hose from the defective hose batch is found. | Obtain this repair scheme through the FAA at the address specified in paragraph (f) of this AD.
(3) Do not install Lindstrand ⅜-inch bore fuel hoses from either hose batch FHL 38381 or FHL 40579, unless repaired per paragraphs (d)(2)(i) and (d)(2)(ii) of this AD. | As of the effective date of this AD. | Not applicable.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each aircraft (specifically balloons) with a Lindstrand Balloons Ltd ⅜-inch fuel hose identified in paragraph (a) of this AD, regardless of whether it has been modified, altered, or repaired in the area subject to the requirements of this AD. For aircraft (specifically balloons) that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Roger Chudy, Aerospace Engineer, FAA, Small Airplane Directorate, 901 Locust, Room 301, Kansas City, Missouri 64106; telephone: (816) 329-4140; facsimile: (816) 329-4090.

(g) How do I get copies of the documents referenced in this AD? You may get copies of the documents referenced in this AD from Lindstrand Balloons Ltd, Maesbury Road, Oswestry, Shropshire SY 10 8ZZ; telephone: +44 (0) 1691-671717; facsimile: +44 (0) 1691-671122. You may view these documents at FAA, Central Region, Office of the Regional Counsel, 901 Locust, Room 506, Kansas City, Missouri 64106.

Note 2: The subject of this AD is addressed in British AD Number 002-07-2002, dated July 12, 2002.

Issued in Kansas City, Missouri, on November 26, 2002.
Michael Gallagher,
Manager, Small Airplane Directorate, Aircraft Certification Service.

[FR Doc. 02-30778 Filed 12-3-02; 8:45 am]

BILLING CODE 4910-13-P